DEPARTMENT OF THE INTERIOR

National Park Service

[NPS-WASO-BSD-CONC-NPS0034075; 222P103601, PPMVSCS1Y.Y00000, PPWOBSADC0 (222); OMB Control Number 1024-0268]

Agency Information Collection Activities; Commercial Use Authorizations

AGENCY: National Park Service, Interior.

ACTION: Notice of information collection; request for comment.

SUMMARY: In accordance with the Paperwork Reduction Act of 1995, we, the National Park Service (NPS) are proposing to renew an information collection.

DATES: Interested persons are invited to submit comments on or before November 14, 2022.

ADDRESSES: Please provide a copy of your comments to the NPS Information Collection Clearance Officer (ADIR-ICCO), 12201 Sunrise Valley Drive, (MS-242) Reston, VA 20191 (mail); or phadrea_ponds@nps.gov (email). Please reference OMB Control Number 1024-0268 in the subject line of your comments.

FOR FURTHER INFORMATION CONTACT: To request additional information about this ICR, contact Samantha Towery, National Park Service, 12795 West Alameda Parkway, Lakewood, CO 80228; or by email at Samantha_Towery@nps.gov; or by telephone at 303-987-6908. Please reference OMB Control Number 1024-0268 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995, (PRA, 44 U.S.C. 3501 et seq.) and 5 CFR 1320.8(d)(1), all information collections require approval under the PRA.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Section 418, Public Law 105-391 (54 U.S.C. 101925) gives the Secretary of the Interior the authority to authorize a private person, corporation, or other entity to provide services to visitors in units of the National Park System through a Commercial Use Authorization (CUA). The NPS authorizes commercial operations that originate and operate entirely within a park (in-park); commercial operations that provide services originating and terminating outside of the park boundaries; noncommercial organized children's camps, outdoor clubs, and nonprofit institutions; and other uses as the Secretary determines appropriate. The NPS Commercial Use Authorization Program uses forms 10-550, 10-550s, 10-660, and 10-660A to:

• Manage the program and operations.

• Determine the qualifications and abilities of the commercial operators to provide high quality, safe, and enjoyable experience for park visitors.

• Determine the impact on the park's natural and cultural resources.

• Manage the use and impact of multiple operators.

The information is used to evaluate requests and determine the suitability of the applicants to safely and effectively provide an appropriate service to the visiting public.

Title of Collection: Commercial Use Authorizations.

OMB Control Number: 1024-0268.

Form Number: NPS Forms 10-550, 10-550s, 10-660, and 10-660A.

Type of Review: Extension of a currently approved collection.

Respondents/Affected Public: Individuals or small businesses that wish to provide a commercial service to visitors in areas of the National Park System.

Total Estimated Number of Annual Respondents: 17,000.

Total Estimated Number of Annual Responses: 64,000.

Estimated Completion Time per Response: 58 minutes.

Total Estimated Number of Annual Burden Hours: 61,280.

Respondent's Obligation: Required to obtain or retain a benefit.

Frequency of Collection: On occasion.

Total Estimated Annual Nonhour Burden Cost: $1,500,000.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2022-19576 Filed 9-9-22; 8:45 am]

BILLING CODE 4312-52-P